DEPARTMENT OF EDUCATION

[Docket No.: ED-2025-SCC-1141]

Agency Information Collection Activities; Submission to the Office of Management and Budget for Review and Approval; Comment Request; National Assessment of Educational Progress (NAEP) 2027

AGENCY: National Center for Education Statistics (NCES), Institute of Education Sciences (IES), Department of Education (ED).

ACTION: Notice.

SUMMARY: In accordance with the Paperwork Reduction Act (PRA) of 1995, the Department is proposing a revision of a currently approved information collection request (ICR).

DATES: Interested persons are invited to submit comments on or before April 1, 2026.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Matt Soldner, 202-453-7441.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Assessment of Educational Progress (NAEP) 2027 Science Pilot 30-day Clearance Package.

OMB Control Number: 1850-0928.

Type of Review: Revision of a currently approved ICR.

Respondents/Affected Public: Individuals and Households; State, Local, and Tribal Governments.

Total Estimated Number of Annual Responses: 17,960.

Total Estimated Number of Annual Burden Hours: 10,625.

Abstract: The National Assessment of Educational Progress (NAEP) is a federally authorized survey of student achievement at grades 4, 8, and 12 in various subject areas, such as mathematics, reading, writing, science, U.S. history, and civics.

NAEP is conducted by the National Center for Education Statistics (NCES) in the Institute of Education Sciences of the U.S. Department of Education. NCES is responsible for designing and executing the assessment, including designing the assessment procedures and methodology, developing the assessment content, selecting the final assessment content, sampling schools and students, recruiting schools, administering the assessment, scoring student responses, determining the analysis procedures, analyzing the data, and reporting the results.

The National Assessment Governing Board (henceforth referred to as the Governing Board or NAGB), appointed by the Secretary of Education but independent of the Department, is a bipartisan group whose members include governors, state legislators, local and state school officials, educators, business representatives, and members of the general public. The Governing Board sets policy for NAEP and is responsible for developing the frameworks and test specifications that serve as the blueprint for the assessments.

NAEP consists of two assessment programs: the NAEP Long-term Trend (LTT) assessment and the main NAEP assessment. The LTT assessments are given at the national level only and are administered to students at ages 9, 13, and 17 in a manner that is very different from that used for the main NAEP assessments. LTT reports mathematics and reading results that present trend data since the 1970s. LTT does not provide scores for individual students or schools.

The main NAEP assessments report current achievement levels and trends in student achievement at grades 4, 8, and 12 for the nation and, for certain assessments (e.g., reading and mathematics), states and select urban districts (i.e., Trial Urban District Assessment, or TUDA). The main NAEP assessments provide results on subject-matter achievement, instructional experiences, and school environment for different student populations (e.g., all fourth-graders) and groups within those populations (e.g., sex [male and female students], race/ethnicity groups). NAEP does not provide scores for individual students or schools.

The NAEP assessments contain two different types of items: “cognitive” assessment items, which measure what students know and can do in an academic subject, and “survey” or “non-cognitive” items, which gather information such as demographic variables, as well as construct-related information, such as courses taken. The survey portion includes a collection of data from students, teachers, and school administrators. Since NAEP assessments are administered uniformly using the same sets of test forms across the nation, NAEP results serve as a common metric for all states and select urban districts. The assessment stays essentially the same from year to year, with only carefully documented changes. This permits NAEP to provide a clear picture of student academic progress over time.

The possible universe of student respondents for NAEP 2027 is estimated to be 12,000 students at grade 8 attending the approximately 308 public and private schools in a variety of states and the District of Columbia and may include Bureau of Indian Education Schools.

This request is to conduct NAEP in 2027, specifically for the Grade 8 Science Pilot.

NAEP will administer the assessment using school devices and the internet. For schools that cannot meet the minimum specification for the use of school devices, NAEP will provide an alternate delivery model utilizing NAEP Chromebooks. NAEP has transitioned to primarily administer on school devices with a staged approach so that trends can be measured across time. NAEP conducted a School-based Equipment study in 2024 (OMB #1850-0803 v.347) as well as a Field Test in 2025 (OMB #1850-0803 v.353) to provide more information about student and school interactions with the eNAEP system on school devices, as compared to NAEP Chromebooks and Surface Pros, to inform the use of school devices at a larger scale in NAEP assessments beginning in 2026. Also, a 2026 bridge study will compare NAEP devices and school devices to evaluate whether scores from the two different assessment models are comparable. Note: in this study, some schools that qualify to be assessed on school devices will be assessed on NAEP devices, since the two different school types (i.e., those qualified to assess on school devices, and those not qualified to assess on school devices) may have different characteristics. This will allow the study to establish a common linking population.

This submission is the 30-day component of the 2027 NAEP Clearance package, which follows the 60-day submission and public posting on the Federal Register. Final early communication materials and Assessment Management System (AMS) screens are available in this 30-day package, which will be used to notify the public of the upcoming assessment and prepare schools for the 2027 Science Pilot. This Clearance Package will have one amendment, which is planned to be submitted in July 2026, and which will replace any remaining drafted materials with final versions for the 2027 NAEP assessments.

Ross Santy,
Chief Data Officer, Office of Planning, Evaluation and Policy Development.

[FR Doc. 2026-04094 Filed 2-27-26; 8:45 am]

BILLING CODE 4000-01-P